DEPARTMENT OF TRANSPORTATION

[Docket No. DOT-MARAD 2014-0022]

Agency Requests for Renewal of a Previously Approved Information Collection: Uniform Financial Reporting Requirements

AGENCY: Maritime Administration, DOT.

ACTION: Notice and request for comments.

SUMMARY: The Department of Transportation (DOT) invites public comments about our intention to request the Office of Management and Budget (OMB) approval to renew an information collection. The information collection is necessary for MARAD to determine compliance with regulatory and contractual requirements. We are required to publish this notice in the Federal Register by the Paperwork Reduction Act of 1995, Public Law 104-13.

DATES: Written comments should be submitted by April 28, 2014.

ADDRESSES: You may submit comments [identified by Docket No. DOT-MARAD-2014-0022 through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Daniel Ladd, Office of Financial Approvals and Marine Insurance, Division of Business Finance, 202-366-1859, Maritime Administration, U.S. Department of Transportation, 1200 New Jersey Avenue SE., Room W23-322, Washington, DC 20590.

SUPPLEMENTARY INFORMATION:

OMB Control Number: 2133-0005

Title: Uniform Financial Reporting Requirements

Form Numbers: MA-172

Type of Review: Renewal of a previously approved information collection.

Background: The Uniform Financial Reporting Requirements are used as a basis for preparing and filing semi-annual and annual financial statements with the Maritime Administration. Regulations requiring financial reports to the Maritime Administration are authorized by Section 801 of the Merchant Marine Act, 1936 (46 U.S.C. 53101 note). Financial reports are also required by regulation of purchasers of ships from MARAD on credit, companies chartering ships from MARAD, and of companies having Title XI guarantee obligations (46 CFR Part 298).

Respondents: Vessel owners acquiring ships from MARAD on credit, companies chartering ships from MARAD, and companies having Title XI guarantee obligations.

Number of Respondents: 66

Frequency: Bi-annually

Number of Responses: 132

Total Annual Burden: 1254 hours

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://regulations.gov.

Authority: The Paperwork Reduction Act of 1995; 44 U.S.C. Chapter 35, as amended; and 49 CFR 1:93.

Dated: February 18, 2014.
Julie P. Agarwal,
Secretary, Maritime Administration.

[FR Doc. 2014-04229 Filed 2-25-14; 8:45 am]

BILLING CODE 4910-81-P